NUCLEAR REGULATORY COMMISSION

[Docket No. 50-261]

Carolina Power & Light Company; H. B. Robinson Steam Electric Plant, Unit No. 2; Environmental Assessment and Finding of No Significant Impact

The U.S. Nuclear Regulatory Commission (NRC) is considering issuance of an exemption from Title 10 of the Code of Federal Regulations (10 CFR) part 55, section 55.59(c) for Facility Operating License No. DPR-23, issued to Carolina Power & Light Company (the licensee), for operation of the H. B. Robinson Steam Electric Plant, Unit No. 2 (HBRSEP2), located in Darlington County, South Carolina. As required by 10 CFR 51.21, the NRC is issuing this environmental assessment and finding of no significant impact.

Environmental Assessment

Identification of the Proposed Action

The proposed action would exempt the licensee on a one-time basis from the schedular requirements of 10 CFR 55.59(c) for conducting the licensed operator requalification annual operating test and biennial comprehensive written examination at HBRSEP2.

The proposed action is in accordance with the licensee's application for exemption dated October 11, 2002.

The Need for the Proposed Action

The proposed action would extend the date for the licensee to complete the licensed operator requalification annual operating test and biennial comprehensive written examinations at HBRSEP2. The proposed action would extend the date for completing the examinations from December 31, 2002, to March 31, 2003, therefore extending the examination schedules by 3 months over the schedules required by 10 CFR 55.59(c). This proposed action is needed to allow HBRSEP2 to complete an unusually heavy workload associated with a plant refueling outage and a power uprate, including conducting associated additional training and modifying the plant-specific simulator, in a timely and safe fashion without undue hardship to plant personnel and licensed plant operators.

Environmental Impacts of the Proposed Action

The NRC has completed its evaluation of the proposed action and concludes, as set forth below, that there are no significant environmental impacts associated with the extension of the operator requalification examinations from December 31, 2002, to March 31, 2003.

The proposed action will not significantly increase the probability or consequences of accidents, no changes are being made in the types of effluents that may be released off site, and there is no significant increase in occupational or public radiation exposure. Therefore, there are no significant radiological environmental impacts associated with the proposed action.With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for HBRSEP2.

Agencies and Persons Consulted

On November 26, 2002, the staff consulted with the South Carolina State official, regarding the environmental impact of the proposed action. The State official had no comments.

Finding of No Significant Impact

On the basis of this environmental assessment, the NRC concludes that the proposed action will not have a significant effect on the quality of the human environment. Accordingly, the NRC has determined not to prepare an environmental impact statement for the proposed action.

For further details with respect to the proposed action, see the licensee's letter dated October 11, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 2nd day of December 2002.
For the Nuclear Regulatory Commission.
Allen G. Howe,
Chief, Section 2, Project Directorate II, Division of Licensing Project Management, Office of Nuclear Reactor Regulation.

[FR Doc. 02-31000 Filed 12-6-02; 8:45 am]

BILLING CODE 7590-01-P